DEPARTMENT OF THE INTERIOR

Bureau of Land Management

[212L1109AF LLUTC030000.L14400000FR0000; UTU-91524]

Notice of Realty Action: Recreation and Public Purposes Act Classification; Washington County, Utah

AGENCY: Bureau of Land Management, Interior.

ACTION: Notice of Realty Action.

SUMMARY: The Bureau of Land Management (BLM) examined certain public lands in Washington County, Utah, and found them suitable for classification for lease or conveyance to the Washington County Water Conservancy District (WCWCD) under the provisions of the Recreation and Public Purposes (R&PP) Act, as amended, the Taylor Grazing Act, and Executive Order 6910. WCWCD proposes to use the 10.87-acre parcel described below as a camping and recreation area adjacent to a proposed reservoir near the junction of Interstate 15 and State Route 17.

DATES: Submit written comments regarding this proposed classification on or before June 1, 2021.

ADDRESSES: Comments may be emailed to blm_ut_sgfo_comments@blm.gov or mailed to the BLM St. George Field Office, Field Manager, 345 E Riverside Drive, St. George, Utah 84790. The BLM will not consider comments received via telephone calls. Detailed information including, but not limited to, a proposed development and management plan and documentation relating to compliance with applicable environmental and cultural resource laws, the documents are available on the BLM's E-Planning website at https://go.usa.gov/xsCrb.

FOR FURTHER INFORMATION CONTACT: Stephanie Trujillo, Realty Specialist, email: strujill@blm.gov, phone: (435) 688-3343. Persons who use a telecommunications device for the deaf may call the Federal Relay Service (FRS) at 1-800-877-8339 to leave a message or question for the above individual. The FRS is available 24 hours a day, 7 days a week. Replies are provided during normal business hours.

SUPPLEMENTARY INFORMATION: The WCWCD has not applied for more than the 6,400-acre limitation for recreation uses in a year (or 640 acres if a nonprofit corporation or association), or more than 640 acres for each of the programs involving public resources other than recreation.

The WCWCD submitted an application in compliance with the regulations at 43 CFR 2741.4(b). The lands examined and identified as suitable for lease or conveyance under the R&PP Act are legally described as:

Salt Lake Meridian, Utah

T. 40 S., R. 13 W.,

Sec. 33, lots 16, 18, and 19.

The area described contains 10.87 acres, according to the official plat of the survey of the said land, on file with the BLM.

The lands are not needed for any Federal purposes. The lease or conveyance of the lands for recreation or public purposes use conforms with the BLM St. George Field Office Resource Management Plan, approved in March 1999, and would be in the public's interest. The BLM analyzed the parcel in a site-specific Environmental Assessment, DOI-BLM-UT-C030-2012-0001-EA.

All interested parties will receive a copy of this notice once it is published in the Federal Register. A copy of this notice with information about this proposed realty action will be published in the newspaper of local circulation once a week for three consecutive weeks. The regulations at 43 CFR subpart 2741 addressing requirements and procedures for conveyances under the R&PP Act do not require a public meeting.

Upon publication of this notice in the Federal Register, the lands will be segregated from all other forms of appropriation under the public land laws, including locations under the mining laws, except for lease or conveyance under the R&PP Act and leasing under the mineral leasing laws.

The lease or conveyance of the land, when issued, will be subject to the following terms, conditions, and reservations:

1. A right-of-way thereon for ditches and canals constructed by the authority of the United States Act of August 30, 1890 (26 Stat. 391; 43 U.S.C. 945).

2. Provisions of the R&PP Act and to all applicable regulations of the Secretary of the Interior.

3. All mineral deposits in the land so patented, and the right to prospect for, mine, and remove such deposits from the same under applicable law and regulations as established by the Secretary of the Interior are reserved to the United States, together with all necessary access and exit rights.

4. Lease or conveyance of the parcel is subject to valid existing rights.

5. An appropriate indemnification clause protecting the United States from claims arising out of the lessee's/patentee's use, occupancy, or occupations on the leased/patented lands.

6. A limited reversionary provision stating the title shall revert to the United States upon a finding, after notice and opportunity for a hearing, that, without the approval of the Secretary of the Interior or his/her delegate, the patentee or its successor attempts to transfer title to or control over the lands to another, the lands have been devoted to a use other than that for which the lands were conveyed, the lands have not been used for the purpose for which the lands were conveyed for a five-year period, or the patentee has failed to follow the approved development plan or management plan. No portion of the land shall under any circumstance revert to the United States if any such portion has been used for solid waste disposal, or for any other purpose, which may result in the disposal, placement, or release of any hazardous substance.

7. Any other reservations the authorized officer determines appropriate to ensure public access and proper management of Federal lands and interests therein.

Any adverse comments will be reviewed by the BLM Utah State Director or other authorized official of the Department of the Interior who may sustain, vacate, or modify this realty action. In the absence of any adverse comments, the classification will become effective on June 14, 2021. The lands will not be offered for lease or conveyance until after the classification becomes effective.

Before including your address, phone number, email address, or other personal identifying information in your comment, you should be aware that your entire comment—including your personal identifying information—may be made publicly available at any time. While you can ask us in your comment to withhold your personal identifying information from public review, we cannot guarantee that we will be able to do so.

(Authority: 43 CFR 2741.5)

Abbie Jossie,
Acting State Director.

[FR Doc. 2021-07604 Filed 4-13-21; 8:45 am]

BILLING CODE 4310-DQ-P